DEPARTMENT OF JUSTICE

Notice of Lodging of Proposed Consent Decree Under the Clean Air Act

On October 25, 2021, the Department of Justice lodged a proposed Consent Decree with the United States District Court for the Northern District of Illinois in the lawsuit entitled United States v. Navistar, Inc., Civil Action No. 15-cv-6143 (MRR).

The government's Amended Complaint alleges that Navistar, Inc. violated the Clean Air Act by introducing into commerce 7,749 heavy-duty diesel engines for use in trucks and buses in model year 2010 without a valid EPA-issued certificate of conformity demonstrating compliance with Clean Air Act standards to control nitrogen oxide (NOX) emissions. The complaint also alleges that the engines did not conform to emission standards applicable to model year 2010 engines.

The Consent Decree requires Navistar, Inc. to perform projects to mitigate 10,000 tons of NOX emissions, to retire Navistar's current balance of NOX emission credits under EPA's Averaging, Banking, and Trading program (estimated to offset an additional 2,145 tons of NOX emissions), and to pay a civil penalty of $52 million within thirty days of entry of the Decree.

The publication of this notice opens a period for public comment on the Consent Decree. Comments should be addressed to the Assistant Attorney General, Environment and Natural Resources Division, and should refer to United States v. Navistar, Inc., D.J. Ref. No. 90-5-2-1-10922. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Consent Decree may be examined and downloaded at this Justice Department website: https://www.justice.gov/enrd/consent-decrees. We will provide a paper copy of the Decree upon written request and payment of reproduction costs. Please mail your request and payment to: Consent Decree Library, U.S. DOJ—ENRD, P.O. Box 7611, Washington, DC 20044-7611.

Please enclose a check or money order for $11.25 (25 cents per page reproduction cost) payable to the United States Treasury.

Patricia Mckenna,
Assistant Section Chief, Environmental Enforcement Section, Environment and Natural Resources Division.

[FR Doc. 2021-23572 Filed 10-28-21; 8:45 am]

BILLING CODE 4410-15-P